DEPARTMENT OF ENERGY

Federal Energy Regulatory Commission

Combined Notice of Filings #1

June 8, 2007.

Take notice that the Commission received the following electric corporate filings:

Docket Numbers: EC07-101-000.

Applicants: AES Central Valley, L.L.C.; AES Delano, Inc.; Covanta Holding Corporation.

Description: AES Central Valley, LLC, AES Delano, Inc and Covanta Holdings Corp submit for approval of a transaction wherein Covanta Holding will acquire from Central Valley six wholly owned direct & indirect subsidiaries etc.

Filed Date: 06/04/2007.

Accession Number: 20070606-0194.

Comment Date: 5 p.m. Eastern Time on Monday, June 25, 2007.

Docket Numbers: EC07-102-000.

Applicants: Blue Canyon Windpower II LLC; Flat Rock Windpower LLC; Flat Rock Windpower II LLC; High Trail Wind Farm, LLC; EDP-Energias De Portugal, S.A.

Description: Blue Canyon Windpower II, LLC et al submits an application for authorization to dispose of jurisdictional facilities etc.

Filed Date: 06/01/2007.

Accession Number: 20070606-0196.

Comment Date: 5 p.m. Eastern Time on Friday, June 22, 2007.

Take notice that the Commission received the following electric rate filings

Docket Numbers: ER00-1857-007.

Applicants: Split Rock Energy LLC.

Description: Split Rock Energy LLC, Notice of Non-Material Change in Status.

Filed Date: 06/04/2007.

Accession Number: 20070604-5063.

Comment Date: 5 p.m. Eastern Time on Monday, June 25, 2007.

Docket Numbers: ER01-2508-002.

Applicants: ENMAX Energy Marketing, Inc.

Description: ENMAX Energy Marketing, Inc submits a notice of change in status that reflects a departure from the facts relied upon in the grant of market-based rate authority.

Filed Date: 06/04/2007.

Accession Number: 20070606-0188.

Comment Date: 5 p.m. Eastern Time on Monday, June 25, 2007.

Docket Numbers: ER06-700-004.

Applicants: California Independent System Operator Corporation.

Description: California Independent System Operator Corporation submits Substitute Alternate First Revised Sheet 264 et al in compliance w/FERC's order on rehearing and compliance filings issued on 4/19/07.

Filed Date: 05/31/2007.

Accession Number: 20070604-0201.

Comment Date: 5 p.m. Eastern Time on Thursday, June 21, 2007.

Docket Numbers: ER06-1355-002.

Applicants: Evergreen Wind Power, LLC.

Description: Errata to Notice of Non-Material Change in Status of Evergreen Wind Power, LLC.

Filed Date: 06/01/2007.

Accession Number: 20070601-5061.

Comment Date: 5 p.m. Eastern Time on Friday, June 15, 2007.

Docket Numbers: ER07-596-001.

Applicants: E. ON U.S., LLC.

Description: Louisville Gas and Electric Company et al submits information required by the 5/3/07 deficiency letter & informs of changes that after consideration & in response to the deficiency letter they propose to make to the original filing.

Filed Date: 06/04/2007.

Accession Number: 20070606-0186.

Comment Date: 5 p.m. Eastern Time on Monday, June 25, 2007.

Docket Numbers: ER07-883-001.

Applicants: Southwest Power Pool, Inc.

Description: Southwest Power Pool, Inc submits First Revised Service Agreement 1267 to FERC Electric Tariff, Fourth Revised Tariff 1.

Filed Date: 06/04/2007.

Accession Number: 20070606-0183.

Comment Date: 5 p.m. Eastern Time on Monday, June 25, 2007.

Docket Numbers: ER07-946-001.

Applicants: Westar Energy, Inc.

Description: Westar Energy, Inc resubmits First Revised Sheet 8 in clean and red-line versions to replace First Revised Sheet 4, extending the existing Agreement, with City of Holton, KS, through 9/30/07.

Filed Date: 06/04/2007.

Accession Number: 20070606-0187.

Comment Date: 5 p.m. Eastern Time on Monday, June 25, 2007.

Docket Numbers: ER07-947-001.

Applicants: Westar Energy, Inc.

Description: Westar Energy, Inc resubmits First Revised Sheet 8 in clear and red-line versions to replace First Revised Sheet 4, extending the existing Agreement through 9/30/07.

Filed Date: 06/04/2007.

Accession Number: 20070606-0169.

Comment Date: 5 p.m. Eastern Time on Monday, June 25, 2007.

Docket Numbers: ER07-948-001.

Applicants: Westar Energy, Inc.

Description: Westar Energy, Inc resubmits First Revised Sheet 8 in clean and red-line versions to replace First Revised Sheet 4, extending the existing Agreement through 9/30/07.

Filed Date: 06/04/2007.

Accession Number: 20070606-0184.

Comment Date: 5 p.m. Eastern Time on Monday, June 25, 2007.

Docket Numbers: ER07-995-000.

Applicants: New York Independent System Operator, Inc.

Description: Request of the New York Independent System Operator, Inc for waiver of business practice standard re Standards for Business Practices and Communication Protocols for Public Utilities.

Filed Date: 06/04/2007.

Accession Number: 20070606-0185.

Comment Date: 5 p.m. Eastern Time on Monday, June 25, 2007.

Docket Numbers: ER07-996-000.

Applicants: Goldendale Energy Center, LLC.

Description: Goldendale Energy Center, LLC submits a Notice of Cancellation of its FERC Electric Tariff 1 pursuant to Sections 35.15 and 131.53 of FERC's Regulations.

Filed Date: 06/04/2007.

Accession Number: 20070606-0171.

Comment Date: 5 p.m. Eastern Time on Monday, June 25, 2007.

Docket Numbers: ER07-997-000.

Applicants: Calpine Fox LLC.

Description: Calpine Fox LLC submits a notice of cancellation of its FERC Electric Tariff 1 pursuant to Sections 35.15 and 131.53 of FERC's Regulations.

Filed Date: 06/04/2007.

Accession Number: 20070606-0170.

Comment Date: 5 p.m. Eastern Time on Monday, June 25, 2007.

Docket Numbers: ER07-998-000.

Applicants: CPN Pleasant Hill, LLC.

Description: CPN Pleasant Hill, LLC et al submits a Notice of Cancellation of its FERC Electric Tariff, Original Volume 1 pursuant to Sections 35.15 and 131.53 of FERC's Regulations.

Filed Date: 06/04/2007.

Accession Number: 20070606-0173.

Comment Date: 5 p.m. Eastern Time on Monday, June 25, 2007.

Docket Numbers: ER07-999-000.

Applicants: MEP Pleasant Hill, LLC.

Description: MEP Pleasant Hill, LLC submits a Notice of Cancellation of its FERC Electric Tariff, Original Volume 1 pursuant to Sections 35.15 and 131.53 of FERC's Regulations.

Filed Date: 06/04/2007.

Accession Number: 20070606-0172.

Comment Date: 5 p.m. Eastern Time on Monday, June 25, 2007.

Docket Numbers: ER07-1000-000; ER07-1001-000; ER07-1002-000.

Applicants: Las Vegas Power Company, LLC; Sugar Creek Power Company, LLC; Zeeland Power Company, LLC.

Description: Las Vegas Power Company, LLC, et al. informs FERC that as a result of name changes they have succeeded to the market-based rate tariffs of Mirant Las Vegas, LLC et al.

Filed Date: 06/04/2007.

Accession Number: 20070606-0174.

Comment Date: 5 p.m. Eastern Time on Monday, June 25, 2007.

Docket Numbers: ER07-1003-000.

Applicants: Southern Company Services, Inc.

Description: Southern Company Services, Inc agent for Alabama Power Co et al. submits this 5/22/07, Revision 2 to the Agreement for Network Integration Transmission Service for Alabama Municipal Electric Authority dated 12/29/05.

Filed Date: 06/01/2007.

Accession Number: 20070606-0175.

Comment Date: 5 p.m. Eastern Time on Friday, June 22, 2007.

Docket Numbers: ER07-1004-000.

Applicants: Wisconsin Electric Power Company; Upper Peninsula Power Company.

Description: Wisconsin Electric Power Company et al. submit revisions to the Balancing Area Operations Coordination Agreement.

Filed Date: 06/04/2007.

Accession Number: 20070606-0176.

Comment Date: 5 p.m. Eastern Time on Monday, June 25, 2007.

Docket Numbers: ER07-1005-000.

Applicants: Westar Energy, Inc.

Description: Westar Energy, Inc submits a Supplemental Generation Agreement w/ the City of Sabetha dated as of 5/29/07 pursuant to section 205(c) of the FPA and Part 35 of the Commission's Regulation.

Filed Date: 06/04/2007.

Accession Number: 20070606-0180.

Comment Date: 5 p.m. Eastern Time on Monday, June 25, 2007.

Docket Numbers: ER07-1006-000.

Applicants: Westar Energy, Inc.

Description: Westar Energy, Inc submits a Supplemental Generation Agreement with the City of Minneapolis dated as of 5/29/07 pursuant to section 205(c) of the FPA and Part 35 of the Commission's Regulations.

Filed Date: 06/04/2007.

Accession Number: 20070606-0181.

Comment Date: 5 p.m. Eastern Time on Monday, June 25, 2007.

Docket Numbers: ER07-1007-000.

Applicants: Westar Energy, Inc.

Description: Westar Energy, Inc submits a Supplemental Generation Agreement with the City of Holton, Kansas dated as of 5/21/07 pursuant to section 205(c) of the FPA and Part 35 of FERC's Regulations.

Filed Date: 06/04/2007.

Accession Number: 20070606-0182.

Comment Date: 5 p.m. Eastern Time on Monday, June 25, 2007.

Docket Numbers: ER07-1008-000.

Applicants: Kentucky Utilities Company.

Description: Kentucky Utilities Company submits Amendment #1 to Contract for Electric Service with the City of Madisonville, Kentucky pursuant to section 205(c) of the FPA etc.

Filed Date: 06/04/2007.

Accession Number: 20070606-0177.

Comment Date: 5 p.m. Eastern Time on Monday, June 25, 2007.

Docket Numbers: ER07-1009-000.

Applicants: Cleco Power LLC.

Description: Cleco Power LLC submits an Amendment to its OATT pursuant to section 205 of the FPA, 16 USC, 824d and to Part 35 of FERC's Regulations.

Filed Date: 06/04/2007.

Accession Number: 20070606-0179.

Comment Date: 5 p.m. Eastern Time on Monday, June 25, 2007.

Docket Numbers: ER07-1010-000.

Applicants: Sumas Cogeneration Co LP.

Description: Sumas Cogeneration Company, LP's application for order accepting market-based rate tariff, granting waivers and blanket authority.

Filed Date: 06/04/2007.

Accession Number: 20070606-0178.

Comment Date: 5 p.m. Eastern Time on Monday, June 25, 2007.

Docket Numbers: ER07-1011-000.

Applicants: UGI Utilities, Inc.

Description: UGI Utilities, Inc submits the corrected Annual Update which was originally submitted on 5/31/07 with detailed calculations conducted through its cost-of-service formula rate etc.

Filed Date: 05/31/2007.

Accession Number: 20070606-0081.

Comment Date: 5 p.m. Eastern Time on Thursday, June 21, 2007.

Docket Numbers: ER07-1012-000.

Applicants: UGI Utilities, Inc.

Description: UGI Utilities, Inc submits First Revised Sheet 309B et al. to PJM Open Access Transmission Tariff etc.

Filed Date: 05/31/2007.

Accession Number: 20070606-0193.

Comment Date: 5 p.m. Eastern Time on Thursday, June 21, 2007.

Docket Numbers: ER07-1014-000.

Applicants: NSTAR Electric Company.

Description: NSTAR Electric Co submits its informational filing containing the true-up billings under their Local Service Schedules etc.

Filed Date: 06/01/2007.

Accession Number: 20070606-0189.

Comment Date: 5 p.m. Eastern Time on Friday, June 22, 2007.

Take notice that the Commission received the following foreign utility company status filings:

Docket Numbers: FC07-51-000.

Applicants: CMS Enterprises Company.

Description: CMS Enterprises Company notification of Self-Certification of Foreign Utility Company Status of Jamaica Private Power Co. Ltd and Private Power Operators Ltd.

Filed Date: 06/05/2007.

Accession Number: 20070605-5026.

Comment Date: 5 p.m. Eastern Time on Tuesday, June 26, 2007.

Take notice that the Commission received the following public utility holding company filings:

Docket Numbers: PH07-18-000.

Applicants: DQE Holdings LLC.

Description: DQE Holdings LLC submit a FERC Form 65 B Waiver.

Filed Date: 06/04/2007.

Accession Number: 20070604-5052.

Comment Date: 5 p.m. Eastern Time on Monday, June 25, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-11656 Filed 6-15-07; 8:45 am]

BILLING CODE 6717-01-P